DEPARTMENT OF THE INTERIOR

Minerals Management Service

[Docket No. MMS-2008-OMM-0007]

MMS Information Collection Activity: 1010-0141 (30 CFR 250, Subpart D) Oil and Gas Drilling Operations, Revision of a Collection; Comment Request

AGENCY: Minerals Management Service (MMS), Interior.

ACTION: Notice of a revision of an information collection (1010-0141).

SUMMARY: To comply with the Paperwork Reduction Act of 1995 (PRA), MMS is inviting comments on a collection of information that we will submit to the Office of Management and Budget (OMB) for review and approval. The information collection request (ICR) concerns the paperwork requirements in the regulations under 30 CFR 250, Subpart D, “Oil and Gas Drilling Operations,” and forms MMS-123, MMS-123S, MMS-124, MMS-125, MMS-133 and MMS-133S.

DATES: Submit written comments by March 28, 2008.

ADDRESSES: You may submit comments by any either of the following methods listed below.

• Electronically: go to http://www.regulations.gov, select “Minerals Management Service” from the agency drop-down menu, then click “submit.” In the Docket ID column, select MMS-2008-OMM-0007 to submit public comments and to view supporting and related materials available. Information on using Regulations.gov, including instructions for accessing documents, submitting comments, and viewing the docket after the close of the comment period, is available through the site's “User Tips” link. All comments submitted will be published and posted to the docket after the closing period.

• Mail or hand-carry comments to the Department of the Interior; Minerals Management Service; Attention: Cheryl Blundon; 381 Elden Street, MS-4024; Herndon, Virginia 20170-4817. Please reference “Information Collection 1010-0141” in your comments.

FOR FURTHER INFORMATION CONTACT: Cheryl Blundon, Regulations and Standards Branch at (703) 787-1607. You may also contact Cheryl Blundon to obtain a copy, at no cost, of the regulations and the forms that require the subject collection of information.

SUPPLEMENTARY INFORMATION: Title: 30 CFR part 250, subpart D, Oil and Gas Drilling Operations.

Form(s): MMS-123, MMS-123S, MMS-124, MMS-125, MMS-133 and MMS-133S.

OMB Control Number: 1010-0141.

Abstract: The Outer Continental Shelf (OCS) Lands Act, as amended (43 U.S.C. 1331 et seq. and 43 U.S.C. 1801 et seq.), authorizes the Secretary of the Interior to prescribe rules and regulations to administer leasing of the OCS. Such rules and regulations will apply to all operations conducted under a lease. Operations on the OCS must preserve, protect, and develop oil and natural gas resources in a manner that is consistent with the need to make such resources available to meet the Nation's energy needs as rapidly as possible; to balance orderly energy resource development with protection of human, marine, and coastal environments; to ensure the public a fair and equitable return on the resources of the OCS; and to preserve and maintain free enterprise competition.

Section 1332(6) states that “operations in the [O]uter Continental Shelf should be conducted in a safe manner by well trained personnel using technology, precautions, and other techniques sufficient to prevent or minimize the likelihood of blowouts, loss of well control, fires, spillages, physical obstructions to other users of the waters or subsoil and seabed, or other occurrences which may cause damage to the environment or to property or endanger life or health.” This authority and responsibility are among those delegated to MMS. To carry out these responsibilities, MMS issues regulations governing oil and gas and sulphur operations in the OCS. This notice pertains to the information collection requirements of subpart D and the MMS forms that are used to submit information required.

The MMS OCS Regions use the information collected to ensure that requirements are carried out for oil and gas drilling operations; that operators are required to take necessary precautions to keep wells under control at all times using the best available and safest drilling technology to monitor and evaluate well conditions; and that operators must use and maintain equipment and materials necessary to ensure the safety and protection of personnel, equipment, natural resources, and the environment.

In addition, MMS also issues various Notices to Lessees and Operators (NTLs) to clarify and provide additional guidance on some aspect of the regulations, as well as various forms to capture the data and information.

The following explains how we use the information collected on each form.

• Form MMS-123, Application for Permit to Drill and Form MMS-123S, Supplemental APD Information Sheet (Casing Design): The MMS uses the information from these forms to determine the conditions of a drilling site to avoid hazards inherent in drilling operations.

• Form MMS-124, Application for Permit to Modify: The MMS uses the information on this form to evaluate the adequacy of the equipment, materials, and/or procedures that the lessee plans to use during well drilling, completion, workover, and production operations.

• Form MMS-125, End of Operations Report: The MMS uses this information to ensure that they have accurate and up-to-date data and information on wells and leasehold activities under their jurisdiction and to ensure compliance with approved plans and any conditions placed upon a suspension or temporary prohibition.

• Form MMS-133, Well Activity Report and Form MMS-133S, Open Hole Data Report (Supplement to the Well Activity Report): The MMS uses this information to monitor the conditions of a well and status of drilling operations.

We will protect information from respondents considered proprietary under the Freedom of Information Act (5 U.S.C. 552) and its implementing regulations (43 CFR part 2) and under regulations at 30 CFR 250.197, “Data and information to be made available to the public or for limited use,” and 30 CFR part 252, “OCS Oil and Gas Information Program.” No items of a sensitive nature are collected. Responses are required to obtain or retain a benefit and/or mandatory.

Frequency: On occasion, weekly, monthly, semi-annually, annually, and varies by section.

Estimated Number and Description of Respondents: Approximately 130 Federal OCS oil and gas lessees or their representatives.

Estimated Reporting and Recordkeeping “Hour” Burden: The currently approved annual reporting burden for the collections of subpart D and associated forms is 163,954 hours combined. The following chart details the individual components and respective hour burden estimates of this ICR. In calculating the burdens, we assumed that respondents perform certain requirements in the normal course of their activities. We consider these to be usual and customary and took that into account in estimating the burden.

Citation 30 CFR 250 subpart D and NTL(s) | Reporting and recordkeeping requirement | Hour burden Fee
402(b) | Request approval to use blind or blind-shear ram or pipe rams and inside BOP | 0.25
403 | Notify MMS of drilling rig movement on or off drilling location | 0.1
| In Gulf of Mexico OCS Region, rig movements reported on form MMS-144—burden covered under 1010-0150
404 | Perform operational check of crown block safety device; record results (weekly) | 0.25
408, 409 | Apply for use of alternative procedures and/or departures not requested in MMS forms (including discussions with MMS or oral approvals) | 5
408, 409; 410-418, plus various other references in subpart D | Apply for permit to drill, revised permit to drill, and requests for various approvals required in subpart D (including §§ 250.423, 424, 427, 432, 442(c), 447, 448(b), 451(g), 456(a)(3), (f), 460, 490(c)(1), (2)) and obtained via forms MMS-123 (Application for Permit to Drill) and MMS-123S (Supplemental APD Information Sheet), and supporting information and notices to MMS | MMS-123 2.5+* $1,850 Fee. MMS-123S 1.5+*
410(b), 417(b) | Reference to Exploration Plan, Development and Production Plan, Development Operations Coordination Document (30 CFR 250, subpart B)—burden covered under 1010-0151 | 0
417(a), (b) | Collect and report additional information on case-by-case basis if sufficient information is not available | 4
417(c) | Submit 3rd party review of drilling unit according to 30 CFR 250, subpart I—burden covered under 1010-0149 | 0
418(e) | Submit welding and burning plan according to 30 CFR 250, subpart A—burden covered under 1010-0114 | 0
421; 423; 428 | Submit casing and cementing program and revisions or changes | 2
424 | Caliper, pressure test, or evaluate casing; submit evaluation results; request approval before resuming operations or beginning repairs (every 30 days during prolonged drilling) | 4
426 | Perform pressure test on all casing strings and drilling liner lap; record results | 2
427(a) | Perform pressure-integrity tests and related hole-behavior observations; record results | 4
434; 467 | Perform diverter tests when installed and once every 7 days; actuate system at least once every 24-hour period; record results (average 2 per drilling operation) | 2
450; 467 | Perform BOP pressure tests, actuations and inspections when installed; at a minimum every 14 days; as stated for components; record results | 10
450, 467 | Function test annulars and rams; document results every 7 days between BOP tests (biweekly). Note: this test is part of BOP test when BOP test is conducted | 0.5
451(c) | Record reason for postponing BOP test (on occasion—approx. 2/year) | 0.25
456(b), (i); 458(b) | Record each drilling fluid circulation; test drilling fluid, record results; record daily inventory of drilling fluid/materials; test and recalibrate gas detectors; record results (on occasion, daily, weekly, quarterly) | 2
456(c), (f) | Perform various calculations; post information (on occasion, daily, weekly) | 0.5
459(a)(3) | Request exception to procedure for protecting negative pressure area | 2
460; 465 | Submit revised plans, changes, well/drilling records, etc., on forms MMS-124 (Application for Permit to Modify) or MMS-125 (End of Operations Report) and supporting information | MMS-124 1.5+* $110 Fee. MMS-125 1.6+*
460 | Submit plans for well testing and notify MMS before test | 2
461(a-b); 466(e); 468(a) | Record and submit well logs, survey results, etc | 1.5
| Record and submit directional and vertical-well surveys | 1
| Record and submit velocity profiles and surveys | 1
| Record and submit core analyses | 1
461(e) | Provide copy of well directional survey to affected leaseholder | 1
462(a) | Prepare and post well control drill plan for crew members | 3
462(c) | Perform well-control drills; record results (2 crews weekly) | 1
463(b) | Request field drilling rules be established, amended, or canceled | 2.5
466, 467 | Retain drilling records for 90 days after drilling is complete; retain casing/liner pressure, diverter, and BOP records for 2 years; retain well completion/well workover until well is permanently plugged/abandoned or lease is assigned | 1.5
468(b); 465(b)(3) | In the GOM OCS Region, submit drilling activity reports weekly on forms MMS-133 (Well Activity Report) and MMS-133S (Bore Hole Data) and supporting information | 0.8+*
468(c) | In the Pacific and Alaska OCS Regions during drilling operations, submit daily drilling reports. N/A in GOM | 1
469 | As specified by region, submit well records, paleontological interpretations or reports, service company reports, and other reports or records of operations | 1.5
490(c)(4), (d) | Submit request for reclassification of H2S zone; notify MMS if conditions change | 2
490(f); referred in 418(d) also | Submit contingency plans for operations in H2S areas (16 drilling, 5 work-over, 6 production) | 25
490(g) | Conduct H2S training; post safety instructions; document training on occasion and annual refresher (approx. 2/year) | 4
490(h)(2) | Conduct weekly drills and safety meetings; document attendance | 2
490(i) | Display warning signs—no burden as facilities would display warning signs and use other visual and audible systems | 0
490(j)(7-8) | Test H2S detection and monitoring sensors during drilling; record testing and calibrations on occasion, daily during drilling (approx. 12 sensors per rig) | 4
490(j)(7-8) | Test H2S detection and monitoring sensors every 14 days during production; record testing and calibrations (approx. 30 sensors/5 platforms + approx. 42 sensors/23 platforms) | 3.5
490(j)(12) | Propose alternatives to minimize or eliminate SO2 hazards—submitted with contingency plans—burden covered under 250.490(f) | 0
490(j)(13)(vi) | Label breathing air bottles—no burden as supplier normally labels bottles; facilities would routinely label if not | 0
490(l) | Notify (phone) MMS of unplanned H2S releases (approx. 2/year) | 0.2
490(o)(5) | Request approval to use drill pipe for well testing | 2
490(q)(1) | Seal and mark for the presence of H2S cores to be transported—no burden as facilities would routinely mark transported cores | 0
490(q)(9) | Request approval to use gas containing H2S for instrument gas | 2
490(q)(12) | Analyze produced water disposed of for H2S content and submit results to MMS on occasion (approx. weekly) | 2.8
400-490 | General departure or alternative compliance requests not specifically covered elsewhere in subpart D | 2
* The hour burdens are an average of the estimate due to the fact that a percentage of the submittals are reported electronically, which in some cases takes less time than the percentage of the submittals that are reported in paper form.

Estimated Reporting and Recordkeeping “Non-Hour Cost” Burden: We have identified two non-hour cost burdens for this collection. When respondents submit an Application for Permit to Drill (Form MMS-123), they submit a $1,850 fee for initial applications only (there is no fee for revisions); and when respondents submit an Application for Permit to Modify (Form MMS-124), they submit a $110 fee. There are no other “non-hour cost” burdens for this collection.

Public Disclosure Statement: The PRA (44 U.S.C. 3501, et seq.) provides that an agency may not conduct or sponsor a collection of information unless it displays a currently valid OMB control number. Until OMB approves a collection of information, you are not obligated to respond.

Comments: Before submitting an ICR to OMB, PRA section 3506(c)(2)(A) requires each agency “* * * to provide notice * * * and otherwise consult with members of the public and affected agencies concerning each proposed collection of information * * *”. Agencies must specifically solicit comments to: (a) Evaluate whether the proposed collection of information is necessary for the agency to perform its duties, including whether the information is useful; (b) evaluate the accuracy of the agency's estimate of the burden of the proposed collection of information; (c) enhance the quality, usefulness, and clarity of the information to be collected; and (d) minimize the burden on the respondents, including the use of automated collection techniques or other forms of information technology.

Agencies must also estimate the “non-hour cost” burdens to respondents or recordkeepers resulting from the collection of information. Therefore, if you have costs to generate, maintain, and disclose this information, you should comment and provide your total capital and startup cost components or annual operation, maintenance, and purchase of service components. You should describe the methods you use to estimate major cost factors, including system and technology acquisition, expected useful life of capital equipment, discount rate(s), and the period over which you incur costs. Capital and startup costs include, among other items, computers and software you purchase to prepare for collecting information, monitoring, and record storage facilities. You should not include estimates for equipment or services purchased: (i) Before October 1, 1995; (ii) to comply with requirements not associated with the information collection; (iii) for reasons other than to provide information or keep records for the Government; or (iv) as part of customary and usual business or private practices.

We will summarize written responses to this notice and address them in our submission for OMB approval. As a result of your comments, we will make any necessary adjustments to the burden in our submission to OMB.

Public Comment Procedure: Before including your address, phone number, e-mail address, or other personal identifying information in your comment, you should be aware that your entire comment—including your personal identifying information—may be made publicly available at any time. While you can ask us in your comment to withhold your personal identifying information from public review, we cannot guarantee that we will be able to do so.

MMS Information Collection Clearance Officer: Arlene Bajusz, (202) 208-7744.

Dated: January 16, 2008.
E.P. Danenberger,
Chief, Office of Offshore Regulatory Programs.

[FR Doc. E8-1350 Filed 1-25-08; 8:45 am]

BILLING CODE 4310-MR-P